DEPARTMENT OF JUSTICE

Notice of Charter Renewal

AGENCY: Justice Department.

ACTION: Notice of Charter Renewal of the Executive Advisory Board of the National Domestic Communications Assistance Center.

SUMMARY: In accordance with the provisions of the Federal Advisory Committee Act, title 5, United States Code, Appendix, and title 41 of the U.S. Code of Federal Regulations, section 101-6.1015, notice is hereby given that the Charter of the National Domestic Communications Assistance Center (NDCAC) Executive Advisory Board (EAB) has been renewed. The Charter is on file with the General Services Administration. The Attorney General determined that the NDCAC EAB is in the public interest and is necessary in connection with the performance of duties of the United States Department of Justice. These duties can best be performed through the advice and counsel of this group.

The purpose of the EAB is to provide advice and recommendations to the Attorney General or designee, and to the Director of the NDCAC that promote public safety and national security by advancing the NDCAC's core functions: law enforcement coordination with respect to technical capabilities and solutions, technology sharing, industry relations, and implementation of the Communications Assistance for Law Enforcement Act (CALEA). The EAB consists of 15 voting members from Federal, State, local and tribal law enforcement agencies. Additionally, there are two non-voting members as follows: a federally-employed attorney assigned full time to the NDCAC to serve as a legal advisor to the EAB, and the DOJ Chief Privacy Officer or designee to ensure that privacy and civil rights and civil liberties issues are fully considered in the EAB's recommendations. The EAB is composed of eight State, local, and/or tribal representatives and seven federal representatives.

The EAB functions solely as an advisory body in compliance with the provisions of the Federal Advisory Committee Act. The Charter has been filed in accordance with the provisions of the Act.

Alice Bardney-Boose,
Designated Federal Officer, National Domestic Communication Assistance Center, Executive Advisory Board.

[FR Doc. 2016-17418 Filed 7-21-16; 8:45 am]

BILLING CODE 4410-02-P